DEPARTMENT OF COMMERCE

National Oceanic and Atmospheric Administration

RIN 0648-XE769

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold a Webinar-based meeting of its River Herring and Shad (RH/S) Committee.

DATES: The meeting will be held Monday, August 15, 2016, from 1 p.m. to 4:30 p.m.

ADDRESSES: The meeting will be held via Webinar (http://mafmc.adobeconnect.com/rh-s-com-aug15-2016/) with a telephone audio connection (provided when connecting).

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org, also has details on the proposed agenda, Webinar access, and briefing materials.

SUPPLEMENTARY INFORMATION:

Agenda

In October 2016, the Council will consider whether to develop an Amendment that could add several species of river Herrings and Shads as Council-managed species. This RH/S Committee meeting will review a white paper and draft decision document related to the need for Council management of blueback Herring, Lewife, American Shad, and hickory Shad. Public comments will also be taken.

Special Accommodations

These meetings are physically accessible to people with disabilities. Requests for sign language interpretation or other auxiliary aid should be directed to M. Jan Saunders, (302) 526-5251, at least 5 days prior to the meeting date.

Authority: 16 U.S.C. 1801 et seq.

Dated: July 28, 2016.
Tracey L. Thompson,
Acting Director, Office of Sustainable Fisheries, National Marine Fisheries Service.

[FR Doc. 2016-18217 Filed 8-1-16; 8:45 am]

BILLING CODE 3510-22-P